COMMITTEE FOR PURCHASE FROM PEOPLE WHO ARE BLIND OR SEVERELY DISABLED

Procurement List; Proposed Addition and Deletions

AGENCY: Committee for Purchase from People Who Are Blind or Severely Disabled.

ACTION: Proposed Addition to and Deletions from Procurement List.

SUMMARY: The Committee is proposing to add to the Procurement List a service to be furnished by nonprofit agencies employing persons who are blind or have other severe disabilities, and to delete products previously furnished by such agencies.

Comments Must Be Received on or Before: December 24, 2006.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail Skennerly@jwod.gov.

SUPPLEMENTARY INFORMATION: This notice is published pursuant to 41 U.S.C 47(a) (2) and 41 CFR 51-2.3. Its purpose is to provide interested persons an opportunity to submit comments on the proposed actions.

Addition

If the Committee approves the proposed addition, the entities of the Federal Government identified in this notice for service will be required to procure the service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agencies listed:

Service

Service Type/Location: Grounds Maintenance, Somersworth AFRC, #187 Route 108, Somersworth, New Hampshire.

NPA: Northern New England Employment Services, Portland, Maine.

Contracting Activity: Army Reserve Contracting Center-Devens Satellite Office, Devens, Massachusetts.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Box Spring Rehabilitation, Used and New (U & N),

7699 29 X 76 U & N,

7699 33 X 78 U & N,

7699 36 X 75 U & N,

7699 36 X 78 U & N,

7699 36 X 80 U & N,

7699 36 X 84 U & N,

7699 38 X 75 U & N,

7699 38 X 80 U & N,

7699 39 X 78 U & N,

7699 41½ X 78 U & N,

7699 47 X 78 U & N,

7699 53 X 73 U & N,

7699 53 X 75 U & N,

7699 53 X 80 U & N.

NPAs: Virginia Industries for the Blind, Charlottesville, VA, L.C. Industries for the Blind, Inc., Durham, NC, Georgia Industries for the Blind, Bainbridge, GA, Winston-Salem Industries for the Blind, Winston-Salem, NC, Mississippi Industries for the Blind, Jackson, MS.

Contracting Activity: GSA, Southwest Supply Center, Fort Worth, Texas.

Matt Rehab, Berth C.P.O.,

7699 Class 1,

7699 Class 2.

NPAs: Virginia Industries for the Blind, Charlottesville, VA,

L.C. Industries for the Blind, Inc., Durham, NC,

Georgia Industries for the Blind, Bainbridge, GA,

Winston-Salem Industries for the Blind, Winston-Salem, NC,

Mississippi Industries for the Blind, Jackson, MS.

Contracting Activity: GSA, Southwest Supply Center, Fort Worth, Texas.

Matt Rehab, Berth Crew,

7699 Class 1 Crew,

7699 Class 2 Crew.

NPAs: Virginia Industries for the Blind, Charlottesville, VA,

L.C. Industries for the Blind, Inc., Durham, NC,

Georgia Industries for the Blind, Bainbridge, GA,

Winston-Salem Industries for the Blind, Winston-Salem, NC,

Mississippi Industries for the Blind, Jackson, MS.

Contracting Activity: GSA, Southwest Supply Center, Fort Worth, Texas.

Matt Rehab, Grade B Reg Bed,

7699 26 X 72½ B,

7699 26 X 76B,

7699 27 X 73B,

7699 30 X 76B,

7699 31 X 78B,

7699 33 X 75B,

7699 34 X 76B,

7699 36 X 78B,

7699 38 X 75B.

NPAs: Virginia Industries for the Blind, Charlottesville, VA,

L.C. Industries for the Blind, Inc., Durham, NC,

Georgia Industries for the Blind, Bainbridge, GA,

Winston-Salem Industries for the Blind, Winston-Salem, NC,

Mississippi Industries for the Blind, Jackson, MS.

Contracting Activity: GSA, Southwest Supply Center, Fort Worth, Texas.

Frame, Mattress, Wooden,

7210-00-NSH-0012,

7210-00-NSH-0013,

7210-00-NSH-0014,

7210-00-NSH-0015,

7210-00-NSH-0016,

7210-00-NSH-0017,

7210-00-NSH-0018.

NPA: Wilkes County Vocational Workshop, Inc., North Wilkesboro, NC.

Contracting Activity: Federal Prison Industries, Department of Justice.

Sheryl D. Kennerly,
Director, Information Management.

[FR Doc. E6-19883 Filed 11-22-06; 8:45 am]

BILLING CODE 6353-01-P